DEPARTMENT OF COMMERCE

National Oceanic and Atmospheric Administration

[RIN 0648-XD332]

Pacific Island Fisheries; Western Pacific Stock Assessment Review; Public Meeting

AGENCY: National Marine Fisheries Service (NMFS), National Oceanic and Atmospheric Administration (NOAA), Commerce.

ACTION: Notice of a public meeting.

SUMMARY: The Western Pacific Fishery Management Council (Council) and NMFS will convene a Western Pacific Stock Assessment Review (WPSAR) meeting for Pacific Island coral reef ecosystem fisheries.

DATES: The meeting will be held on June 30 through July 3, 2014, starting at 9 a.m. each day. The meeting will conclude each day at 5 p.m., or when business for the day has been completed. See SUPPLEMENTARY INFORMATION for the daily meeting agenda.

ADDRESSES: The meeting will be held at the NMFS Honolulu Service Center at Pier 38, 1129 North Nimitz Hwy., Suite 220, Honolulu, HI 96817.

FOR FURTHER INFORMATION CONTACT: Kitty M. Simonds, Executive Director, telephone: (808) 522-8220.

SUPPLEMENTARY INFORMATION: The purpose of this meeting is to review a Bayesian modeling approach that generates maximum sustainable yield (MSY) estimates for Pacific coral reef ecosystem resources using available catch time series, a measure of population growth, carrying capacity, and biomass from NMFS underwater fish census surveys. At this meeting, a team of reviewers provided by the Center for Independent Experts (www.ciereviews.org) will review the model methods, input data and parameters, including the adequacy of the model and model outputs, and suggest research priorities to improve understanding of essential population and fishery dynamics necessary to formulate best management practices. The MSY estimates generated by the model will be the foundation upon which the Council and NMFS will base management decisions for Pacific Island coral reef fisheries, including establishment of annual catch limits (ACL) starting in 2015.

The Council and NMFS established the WPSAR process pursuant to Section 302(g)(1)(E), which provides that the Secretary of Commerce and each regional fishery management council may establish a peer review process for scientific information used to advise the Council about fisheries conservation and management. The Council and NMFS emphasize constituent and stakeholder participation in the WPSAR process and ensuring rigorous and independent review of information.

Meeting Agenda for WPSAR Review

Monday, June 30, 2014

1. Opening remarks and introductions

2. Overview of the Review Process

a. Review of Scope of Work

b. Review process mechanics

3. Background presentations

a. MSRA requirements for Annual Catch Limits

b. Initial ACL specification and the need to improve

4. Presentation on the data preparation for the model-based approach

5. Presentation on the Biomass Augmented Catch-MSY model

6. Questions to presenters Review Panel

7. Public Comment

Tuesday, July 1, 2014

8. Presentation on the P* Analysis

9. Discussion and questions for presenters

10. Review panel deliberations and report writing (closed)

Wednesday, July 2, 2014

11. Review panel deliberations and report writing (closed)

Thursday, July 3, 2014

12. Review panel reports on findings and recommendations

13. Adjourn

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 10, 2014.
William D. Chappell,
Acting Deputy Director, Office of Sustainable Fisheries, National Marine Fisheries Service.

[FR Doc. 2014-13845 Filed 6-12-14; 8:45 am]

BILLING CODE 3510-22-P